COMMISSION ON CIVIL RIGHTS

Notice of Public Meeting of the Hawaii Advisory Committee to the U.S. Commission on Civil Rights

AGENCY: U.S. Commission on Civil Rights.

ACTION: Announcement of meeting.

SUMMARY: Notice is hereby given, pursuant to the provisions of the rules and regulations of the U.S. Commission on Civil Rights (Commission) and the Federal Advisory Committee Act that the Hawaii Advisory Committee (Committee) will hold a meeting via teleconference on Wednesday, October 17, 2018, from 1:00 p.m.-4:00 p.m. (Hawaiian Time) for the purpose of hearing testimony regarding equal opportunity barriers facing Micronesian immigrant groups in the state.

DATES: The meeting will be held on Wednesday, October 17, 2018, from 1:00 p.m.-4:00 p.m. (HDT).

Location: Impact Hub Honolulu, 1050 Queen Street, #100, Honolulu, HI 96814. The location is accessible via public transportation. Street parking is available.

Teleconference: The public may also participate via conference call by calling (855) 719-5012 and use ConferenceID# 5908102.

FOR FURTHER INFORMATION CONTACT: David Barreras, DFO, at dbarreras@usccr.gov or 312-353-8311.

SUPPLEMENTARY INFORMATION: This meeting is open to the public. This meeting is an open comment period, members of the public will be asked to sign in and will be allowed to make a statement, beginning at 1:00 p.m. To request individual accommodations for persons with disabilities planning to attend, please contact the Regional Programs Unit at 312-353-8311 at least 10 days prior to the meeting. Members of the public are also entitled to submit written comments; the comments must be received in the regional office within 30 days following the meeting. Written comments may be mailed to the Regional Programs Unit, U.S. Commission on Civil Rights, 230 S. Dearborn, Suite 2120, Chicago, IL 60604. They may also be faxed to the Commission at (312) 353-8324 or emailed to David Barreras at dbarreras@usccr.gov. Persons who desire additional information may contact the Regional Programs Unit at (312) 353-8311.

The Committee intends to receive testimony from Hawaii's Micronesian population on the topic of barriers to equal opportunity based on color, race, sex, religion, national origin, and/or disability status. The Committee will hear testimony from any community member wishing to be heard on the topic.

Records generated from this meeting may be inspected and reproduced at the Regional Programs Unit Office, as they become available, both before and after the meeting. Records of the meeting will be available via www.facadatabase.gov under the Commission on Civil Rights, Hawaii Advisory Committee link (https://gsageo.force.com/FACA/apex/FACAPublicCommittee?id=a10t0000001gzl0AAA). Persons interested in the work of this Committee are directed to the Commission's website, http://www.usccr.gov, or may contact the Regional Programs Unit Office at the above email or street address.

Agenda

Opening Remarks and Introductions (1:00 p.m.)

Open Forum (1:10 p.m.-4:00 p.m.)

Closing Remarks (4:00 p.m.)

Dated: September 26, 2018.
David Mussatt,
Supervisory Chief, Regional Programs Unit.

[FR Doc. 2018-21361 Filed 10-1-18; 8:45 am]

BILLING CODE 6335-01-P